DEPARTMENT OF TRANSPORTATION

Federal Aviation Administration

Agency Information Collection Activities: Requests for Comments; Clearance of Renewed Approval of Information Collection: Application for Certificate of Waiver or Authorization

AGENCY: Federal Aviation Administration (FAA), DOT.

ACTION: Notice and request for comments.

SUMMARY: In accordance with the Paperwork Reduction Act of 1995, FAA invites public comments about our intention to request the Office of Management and Budget (OMB) approval to renew an information collection. U.S. Code authorizes the issuance of regulations governing the use of navigable airspace. Respondents conducting general operation and flight of aircraft or any activity that could encroach on airspace must apply for approval.

DATES: Written comments should be submitted by October 13, 2015.

ADDRESSES: Send comments to the FAA at the following address: Ronda Thompson, Room 300, Federal Aviation Administration, ASP-110, 950 L'Enfant Plaza SW., Washington, DC 20024.

FOR FURTHER INFORMATION CONTACT: Ronda Thompson at (202) 267-1416, or by email at: Ronda.Thompson@faa.gov.

SUPPLEMENTARY INFORMATION:

OMB Control Number: 2120-0027.

Title: Application for Certificate of Waiver or Authorization.

Form Numbers: FAA Form 7711-2.

Type of Review: Renewal of an information collection.

Background: The information collected by FAA Form 7711-2, Application for Certificate of Waiver or Authorization, is reviewed and analyzed by FAA to determine the type and extent of the intended deviation from prescribed regulations. A certificate of waiver or authorization to deviate is generally issued to the applicant if the proposed operation does not create a hazard to person, property, other aircraft, and includes the operation of unmanned aircraft. Applications for certificates of waiver to the provisions of Parts 91 and 101, for authorization to make parachute jumps (other than emergency or military operations) under Part 105, Section 105.15 (airshows and meets) use FAA Form 7711-2.

Respondents: Approximately 21,761 individuals and businesses.

Frequency: Information is collected on occasion.

Estimated Average Burden per Response: 32 minutes.

Estimated Total Annual Burden: 13,761 hours.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on August 4, 2015.
Ronda Thompson,
FAA Information Collection Clearance Officer, IT Enterprises Business Services Division, ASP-110.

[FR Doc. 2015-19829 Filed 8-11-15; 8:45 am]

BILLING CODE 4910-13-P